ENVIRONMENTAL PROTECTION AGENCY

[FRL-10007-37-OA]

Notification of a Public Meeting of the Science Advisory Board All-Ages Lead Model Review Panel

AGENCY: Environmental Protection Agency (EPA).

ACTION: Notice.

SUMMARY: The Environmental Protection Agency (EPA) Science Advisory Board (SAB) Staff Office announces a public teleconference of the SAB's All-Ages Lead Model (AALM) Panel to discuss its review of the EPA's All-Ages Lead Model (AALM) External Review Draft Version 2.0, comprising the model's software, technical documentation, and user manual (hereafter referred to collectively as AALM 2.0). The AALM 2.0 was developed by EPA's Office of Research and Development.

DATES: The public teleconference will be held on April 23, from 1:00 p.m. to 5:00 p.m. (Eastern Time).

ADDRESSES: The public teleconference will be conducted by telephone only.

FOR FURTHER INFORMATION CONTACT: Any member of the public who wants further information concerning this notice may contact Iris Goodman, Designated Federal Officer (DFO), EPA Science Advisory Board (1400R), U.S. Environmental Protection Agency, 1200 Pennsylvania Avenue, NW, Washington, DC 20460; via telephone/voice mail (202) 564-2164 or email at goodman.iris@epa.gov. General information about the SAB, as well as any updates concerning the meetings announced in this notice can be found on the SAB website at http://www.epa.gov/sab.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB AALM Model Review Panel's will hold a public teleconference to discuss their draft AALM advisory report. This draft report presents the findings and recommendations from the Panel's review of the EPA's All-Ages Lead Model (AALM) External Review Draft Version 2.0, comprising the model's software, technical documentation, and user manual (hereafter referred to collectively as AALM 2.0). The AALM 2.0 was developed by EPA's Office of Research and Development. The Panel will provide its advice to the Administrator through the chartered SAB. All draft reports developed by SAB panels, committees or workgroups are reviewed and approved by the Chartered SAB through a quality review process before being finalized and transmitted to the EPA Administrator. Information on the SAB AALM Review Panel can be found at http://epa.gov/sab.

Availability of Meeting Materials: All meeting materials, including the agenda will be available on the SAB web page at http://epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at a public in-person meeting will be limited to three minutes. Each person making an oral statement should consider providing written comments as well as their oral statement so that the points presented orally can be expanded upon in writing. Persons interested in providing oral statements should contact Dr. Iris Goodman, DFO, in writing (preferably via email) at the contact information noted above by April 16, to be placed on the list of registered speakers.

Written Statements: Written statements will be accepted throughout the advisory process; however, for timely consideration by SAB members, statements should be received in the SAB Staff Office by (preferably via email by April 16, 2020 for consideration at the public teleconference. Written statements should be supplied to the DFO at the contact information above via email (preferred) or in hard copy with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact the DFO, at the contact information noted above, preferably at least ten days prior to the meeting, to give the EPA as much time as possible to process your request.

V. Khanna Johnston,
Deputy Director, EPA Science Advisory Board Staff Office.

[FR Doc. 2020-06998 Filed 4-2-20; 8:45 am]

BILLING CODE 6560-50-P